DEPARTMENT OF JUSTICE

Notice of Lodging of Consent Decree Pursuant to the Clean Air Act

Notice is hereby given that on April 4, 2007, a proposed consent decree in United States and Illinois v. PennTex Resources Illinois, Inc. and Rex Energy Operating Corp., Civil Action No. 07-0241, was lodged with the United States District Court for the Southern District of Illinois.

In this civil action brought pursuant to the Clean Air Act, 42 U.S.C. 7603, the United States sought to prevent the emission of hydrogen sulfide in amounts that may present an imminent and substantial endangerment to human health, welfare or the environment from oil production facilities owned by PennTex Resources Illinois, Inc. and operated by Rex Energy Operating Corp. near the towns of Bridgeport and Petrolia in Lawrence County, Illinois. The State of Illinois joined this action as co-plaintiff asserting a claim under state law to prevent air pollution. Under the proposed consent decree, PennTex and Rex Energy will install vapor control measures to collect hydrogen sulfide from eight gathering facilities and destroy them in elevated flares.

The Department of Justice will accept comments relating to the proposed consent decree for a period of thirty (30) days from the date of publication of this notice. Comments should be addressed to the Assistant Attorney General, Environment and Natural Resources Division, and mailed either electronically to pubcomment-ees.enrd@usdoj.gov or in hard copy to P.O. Box 7611, U.S. Department of Justice, Washington, DC 20044-7611. Comments should refer to United States and Illinois v. PennTex Resources Illinois, Inc. and Rex Energy Operating Corp., Civil Action No. 07-0241, (S.D. Ill.) and D.J. Reference No. 90-5-2-1-08915.

The proposed consent decree may be examined at: (1) The Office of the United States Attorney for the Southern District of Illinois, Nine Executive Drive, Fairview Heights, Illinois 62208, (618) 628-3700; and (2) the United States Environmental Protection Agency (Region 5), 77 West Jackson Boulevard, Chicago, Illinois 60604-3590 (contact Mary T. McAullife (312) 886-6237)). During the comment period, the proposed consent decree may also be examined on the following Department of Justice Web site: http://www.usdoj.gov/enrd/Consent_Decree.html. A copy of the proposed consent decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please refer to the referenced case and D.J. Reference No. 90-5-2-1-08915, and enclose a check in the amount of $23.25 for the consent decree (93 pages at 25 cents per page reproduction costs), made payable to the U.S. Treasury.

William D. Brighton,
Assistant Chief, Environmental Enforcement Section, Environment and Natural Resources Division.

[FR Doc. 07-1926 Filed 4-18-07; 8:45 am]

BILLING CODE 4410-15-M